DEPARTMENT OF COMMERCE

Foreign-Trade Zones Board

[Docket 57-2011]

Foreign-Trade Zone 127—Columbia, SC; Application for Reorganization/Expansion Under Alternative Site Framework

An application has been submitted to the Foreign-Trade Zones (FTZ) Board (the Board) by the Richland-Lexington Airport District, grantee of FTZ 127, requesting authority to reorganize and expand the zone under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on September 23, 2011.

FTZ 127 was approved by the Board on July 2, 1986 (Board Order 333, 51 FR 25075, 7/10/86). The current zone project includes the following sites: Site 1 (109 acres)—Richland-Lexington Airport District, 125A Summer Lake Drive, West Columbia; and, Site 2 (44 acres, expires 3/30/13)—Urban Outfitters, Inc., Edgefield Industrial Park, 30 Industrial Park Blvd., Trenton.

The grantee's proposed service area under the ASF would be Aiken, Allendale, Bamberg, Barnwell, Calhoun, Clarendon, Edgefield, Fairfield, Kershaw, Lee, Lexington, McCormick, Newberry, Richland, Saluda, and Sumter Counties, South Carolina, as described in the application. If approved, the grantee would be able to serve sites throughout the service area based on companies' needs for FTZ designation. The proposed service area is within and adjacent to the Columbia Customs and Border Protection port of entry.

The applicant is requesting authority to reorganize and expand its existing zone project to include Site 1 as a “magnet” site and temporary Site 2 as a “usage-driven site”. The ASF allows for the possible exemption of one magnet site from the “sunset” time limits that generally apply to sites under the ASF, and the applicant proposes that Site 1 be so exempted. Because the ASF only pertains to establishing or reorganizing a general-purpose zone, the application would have no impact on FTZ 127's authorized subzones.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is December 2, 2011. Rebuttal comments in response to material submitted during the foregoing period may be submitted during the subsequent 15-day period to December 19, 2011.

A copy of the application will be available for public inspection at the Office of the Executive Secretary, Foreign-Trade Zones Board, Room 2111, U.S. Department of Commerce, 1401 Constitution Avenue, NW., Washington, DC 20230-0002, and in the “Reading Room” section of the Board's website, which is accessible via http://www.trade.gov/ftz. For further information, contact Kathleen Boyce at Kathleen.Boyce @trade.gov or (202) 482-1346.

Dated: September 23, 2011.
Andrew McGilvray,
Executive Secretary.

[FR Doc. 2011-25316 Filed 9-30-11; 8:45 am]

BILLING CODE;P